ENVIRONMENTAL PROTECTION AGENCY

40 CFR Parts 2 and 99

[EPA-HQ-OAR-2023-0434; FRL-10246.1-02-OAR]

RIN 2060-AW02

Waste Emissions Charge for Petroleum and Natural Gas Systems; Extension of Comment Period

AGENCY: Environmental Protection Agency (EPA).

ACTION: Proposed rule; extension of public comment period.

SUMMARY: On January 26, 2024, the Environmental Protection Agency (EPA) published a proposed rule titled “Waste Emissions Charge for Petroleum and Natural Gas Systems”. The EPA is extending the comment period for this proposed rule.

DATES: The comment period for the proposed rule published on January 26, 2024, at 89 FR 5318, is extended. Comments must be received on or before March 26, 2024.

ADDRESSES: You may send your comments, identified by Docket ID No. EPA-HQ-OAR-2023-0434, by any of the following methods:

• Federal eRulemaking Portal: http://www.regulations.gov (our preferred method) Follow the online instructions for submitting comments.

• Mail: U.S. Environmental Protection Agency, EPA Docket Center, Office of Air and Radiation Docket, Mail Code 28221T, 1200 Pennsylvania Avenue NW, Washington, DC 20460.

• Hand Delivery: EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. Submit your comments, identified by Docket ID No. EPA-HQ-OAR-2023-0434, at https://www.regulations.gov (our preferred method), or the other methods identified in the ADDRESSES section. Once submitted, comments cannot be edited or removed from the docket. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Jennifer Bohman, Climate Change Division, Office of Atmospheric Programs (MC-6207A), Environmental Protection Agency, 1200 Pennsylvania Ave. NW, Washington, DC 20460; telephone number: (202) 343-9548; email address: merp@epa.gov. For technical information, please go to the Methane Emissions Reduction Program website, https://www.epa.gov/inflation-reduction-act/methane-emissions-reduction-program.

SUPPLEMENTARY INFORMATION: On January 26, 2024, the Environmental Protection Agency (EPA) published a proposed rule titled “Waste Emissions Charge for Petroleum and Natural Gas Systems” (89 FR 5318). The public comment for this proposed rule was scheduled to end on March 11, 2024. The EPA is extending that deadline to March 26, 2024. This extension will provide the general public additional time for participation and comment.

Paul Gunning,
Director, Office of Atmospheric Protection.

[FR Doc. 2024-03349 Filed 2-16-24; 8:45 am]

BILLING CODE 6560-50-P